DEPARTMENT OF TRANSPORTATION

Federal Aviation Administration

14 CFR Part 39

[Docket No. 2001-SW-46-AD; Amendment 39-12801; AD 2002-14-01]

RIN 2120-AA64

Airworthiness Directives; Eurocopter France Model AS332L and AS332L1 Helicopters

AGENCY: Federal Aviation Administration, DOT.

ACTION: Final rule.

SUMMARY: This amendment adopts a new airworthiness directive (AD) for the specified Eurocopter France (ECF) helicopters that requires adding a supplement to the Limitations section of the applicable Rotorcraft Flight Manual (RFM) for helicopters with “SEFA” skis installed. This amendment is prompted by the need to limit the taxi and Vne speed of those helicopters with skis. The actions specified by this AD are intended to prevent structural failure of a ski and subsequent loss of control of the helicopter.

DATES: Effective August 14, 2002.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: A proposal to amend 14 CFR part 39 to include an AD for ECF Model AS332L and AS332L1 helicopters was published in the Federal Register on February 6, 2002 (67 FR 5526). That action proposed to require adding the limitations contained in SUP.10.14, Ski Installation, to the Limitations section of the RFM, requiring certain speed limitations for helicopters with skis installed.

The Direction Generale De L'Aviation Civile (DGAC), the airworthiness authority for France, notified the FAA that an unsafe condition may exist on ECF Model AS332L and AS332L1 helicopters equipped with “SEFA” skis. ECF issued Supplement, SUP.10.14, Ski Installation, Normal Revision 2, Issue 2, dated June 2001 to the applicable RFM. The DGAC classified these RFM supplements as mandatory and issued AD No. 2001-316-079(A), dated July 25, 2001. The DGAC advises incorporating the Ski Installation Supplement into the applicable RFM before the next flight and complying with the Vne and the maximum taxiing speed limitations to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed.

The FAA estimates that 3 helicopters of U.S. registry will be affected by this AD, that it will take approximately 10 minutes per helicopter to add the flight manual supplement, and that the average labor rate is $60 per work hour. Based on these figures, the total cost impact of the AD on U.S. operators is estimated to be $30.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket at the Federal Aviation Administration (FAA), Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-14-01 Eurocopter France: Amendment 39-12801. Docket No. 2001-SW-46-AD.

Applicability: Model AS332L and AS332L1 helicopters, with “SEFA” skis installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight, unless accomplished previously.

To prevent structural failure of a ski and subsequent loss of control of the helicopter, accomplish the following:

(a) Before the next flight with skis installed, add the limitations contained in SUP.10.14, Ski Installation, Normal Revision 2, Issue 2, dated June 2001 to the Limitations section of the applicable Rotorcraft Flight Manual.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) This amendment becomes effective on August 14, 2002.

Note 3: The subject of this AD is addressed in Direction General De L'Aviation Civile (France) AD 2001-316-079(A), dated July 25, 2001.

Issued in Fort Worth, Texas, on June 27, 2002.
David A. Downey,
Manager, Rotorcraft Directorate, Aircraft Certification Service.

[FR Doc. 02-17245 Filed 7-9-02; 8:45 am]

BILLING CODE 4910-13-P